SMALL BUSINESS ADMINISTRATION

[Disaster Declaration # 10111 and # 10112]

Pennsylvania Disaster Number PA-00001

AGENCY: U.S. Small Business Administration.

ACTION: Amendment 2.

SUMMARY: This is an amendment of the Presidential declaration of a major disaster for the State of Pennsylvania (FEMA-1587-DR), dated 04/14/2005.

Incident: Flooding.

Incident Period: 04/02/2005 through 04/23/2005.

EFFECTIVE DATE: 04/29/2005.

Physical Loan Application Deadline Date: 06/14/2005.

EIDL Loan Application Deadline Date: 01/09/2006.

ADDRESSES: Submit completed loan applications to U.S. Small Business Administration, Disaster Area Office 1, 360 Rainbow Blvd. South, 3rd Floor, Niagara Falls, NY 14303.

FOR FURTHER INFORMATION CONTACT: A. Escobar, Office of Disaster Assistance, U.S. Small Business Administration, 409 3rd Street, Suite 6050, Washington, DC 20416.

SUPPLEMENTARY INFORMATION: The notice of the Presidential disaster declaration for the State of Pennsylvania dated 04/14/2005, is hereby amended to include the following areas as adversely affected by the disaster.

Primary Counties: Susquehanna.

All other information in the original declaration remains unchanged.

(Catalog of Federal Domestic Assistance Numbers 59002 and 59008)

Cheri L. Cannon,
Acting Associate Administrator for Disaster Assistance.

[FR Doc. 05-9650 Filed 5-13-05; 8:45 am]

BILLING CODE 8025-01-P